DEPARTMENT OF THE INTERIOR

National Park Service

General Management Plan, Final Environmental Impact Statement, Great Sand Dunes National Park and Preserve, Colorado

AGENCY: National Park Service, Department of the Interior.

ACTION: Notice of Availability of the Final Environmental Impact Statement for the General Management Plan and Wilderness Study, Great Sand Dunes National Park and Preserve.

SUMMARY: Pursuant to National Environmental Policy Act of 1969, 42 U.S.C. 4332(2)(C), the National Park Service (NPS) announces the availability of a Final Environmental Impact Statement for the General Management Plan and Wilderness Study, Great Sand Dunes National Park and Preserve, Colorado. The NPS preferred alternative was developed with substantial public, interagency, and staff participation between 2002 and 2006. The NPS preferred option includes options for new trails to allow for dispersed hiking and horseback riding and educational opportunities on the expansion lands. Cooperative or joint facilities, such as future access routes and trailheads with the U.S. Forest Service, U.S. Fish and Wildlife Service, and private partners are emphasized. A large portion of the park expansion lands was studied and will be recommended for future wilderness designation. Additional wilderness in the Sand Dunes National Park was very popular with the public.

DATES: The National Park Service will execute a Record of Decision (ROD) no sooner than 30 days following publication by the Environmental Protection Agency of the Notice of Availability of the Final Environmental Impact Statement.

ADDRESSES: Information will be available for public inspection online at http://parkplanning.nps.gov, in the office of the Superintendent, Art Hutchinson, Great Sand Dunes National Monument and Preserve, 11500 Hwy. 150, Mosca, CO, 81146-9798; Tel: (719) 378-6300; and at the following locations: Southern Peaks Public Library, 423 4th Street, Alamosa, Colorado; West Custer County Library, 209 Main Street, Westcliffe, Colorado; Crestone/Baca Library, Crestone, Colorado; Great Sand Dunes National Park and Preserve Visitor Center.

FOR FURTHER INFORMATION CONTACT: Superintendent Art Hutchinson, Great Sand Dunes National Monument and Preserve, 11500 Hwy. 150, Mosca, CO 81146-9798; Tel: (719) 378-6300; FAX: (719) 378-6311; e-mail: art_hutchinson@nps.gov.

Dated: May 29, 2007.
Anthony J. Schetzsle,
Deputy Director, Intermountain Region, National Park Service.

[FR Doc. 07-2895 Filed 6-11-07; 8:45 am]

BILLING CODE 4312-CL-M